DEPARTMENT OF THE INTERIOR

National Park Service

Point Reyes National Seashore, CA: Boundary Revision To Include Certain Adjacent Real Property

Pursuant to the authority contained in the “Act to establish the Point Reyes National Seashore in the State of California, and for other purposes, approved September 13, 1962” (Pub. L. 87-657; 76 Stat. 538, as amended; 16 U.S.C. 459c-1(a)), notice is hereby given that the boundary of Point Reyes National Seashore is modified to include approximately 2.50 acres of real property adjacent to the park's prior boundary. This adjustment is accomplished to include private property that the owners wish to sell to the United States for the use of Point Reyes National Seashore and which the National Park Service has concluded would be a valuable addition to the Seashore. The property is described below:

All that certain real property situate in the County of Marin, State of California, described below as follows:

Parcel One

Beginning at a point distant South 39° 56′ 50″ East 328 feet; South 79° 51′ 10″ West 208.98 feet; South 46° 22′ 20″ West 78.33 feet; North 88° 57′ 30″ West 23.68 feet; South 64° 00′ West 20.0 feet and South 69° 00′ East 102.0 feet from the Westerly extremity of the course in the center line of Dover Road described as South 50° 03′ 10″ West 61.25 feet in the Deed from Western Title Guaranty Company to Sanford Hirshen, recorded September 11, 1967, in Book 2156 O.R. at Page 524, Marin County Records, and running thence North 69° 00′ West 102.0 feet to the center line of a 40 foot roadway, thence along said center line of said 40 foot roadway North 64° 00′ East 20.0 feet; thence leaving said center line South 88° 57′ 30″ East 23.68 feet North 46° 22′ 20″ East 78.33 feet and North 79° 51′ 10″ East 208.98 feet; thence South 39° 56′ 50″ East 164 feet more or less, to a point on the Southerly line of the tract of land conveyed to Marin County Abstract Company by Deed recorded November 16, 1951, in Book 717 O.R. at Page 409, Marin County Records, thence along said Southerly line South 73° 00′ West 305 feet more or less, to a point which bears South 17° 00′ East from the point of commencement and thence North 17° 00′ West 80 feet more or less to the point of beginning.

Parcel Two

An easement for roadway and utilities 40 feet wide, the center line of which is described as follows:

Beginning at the Westerly extremity of a course in the center line of Dover Road described as South 11° 42′ West 87.78 feet in the Deed from Western Title Guaranty Company to Sanford Hirshen, recorded September 11, 1967 in Book 2156 of Official Records, at page 524, Marin County Records, and running thence South 11° 42′ West 46.12 feet; South 62° 54′ West 92.0 feet; South 18° 00′ East 22.0 feet; South 49° 40′ East 59.0 feet; South 31° 21′ East 46.0 feet; South 64° 00′ West 90.0 feet; South 44° 30′ West 73.51 feet and North 61° 16′ West 96.67 feet.

Parcel Three

Beginning at the Southwesterly extremity of the course set forth as “South 50° 03′ 10″ West 61.25 feet” in the Deed to Sanford Hirshen, recorded September 11, 1967 in Book 2156 of Official Records, at Page 524, being the centerline of a 50 foot roadway known as Dover Road, and running thence along said centerline on a curve to the left whose radius is 125 feet and whose center bears South 39° 56′ 50″ East a distance of 83.67 feet; thence South 11° 42′ West 133.9 feet to the centerline of a 40 foot roadway; thence along said centerline, South 62° 54′ West 92.0 feet, South 18° 00′ East 22.0 feet; South 49° 40′ East 59.0 feet and South 31° 21′ East 46.0 feet to an angle point in the Northerly line of Parcel One as described in the Deed to Christopher D. Burdick, et ux, recorded March 3, 1969 in Book 2278 of Official Records, at page 213; thence along the Northerly line of said Parcel, South 88° 57′ 30″ East 23.68 feet, North 46° 22′ 20″ East 78.33 feet and North 79° 51′ 20″ East 208.98 feet to the Northeasterly corner of said parcel so conveyed to Burdick and thence North 39° 56′ 50″ West 328.0 feet to the point of beginning.

Parcel Four

An easement for roadway over Dover Road, Sunnyside Drive and Drakes View Drive as the same are established by deeds of record.

These revisions in the park boundary are depicted on Drawing No. 612/80,500 A, Segment Map 14, revised March 2, 2004. This map is on file and available for inspection, and further information regarding this boundary change is available, at the following addresses: Director, National Park Service, Department of the Interior, Washington, DC 20240; Regional Director, Pacific West Region, National Park Service, 1111 Jackson St., Ste. 700, Oakland, CA 94607; Superintendent, Point Reyes National Seashore, Point Reyes Station, CA 94956.

Dated: June 24, 2004.
Jonathan B. Jarvis,
Regional Director, Pacific West Region, National Park Service.
Editorial Note: This document was received at the Office of the Federal Register on January 13, 2005.

[FR Doc. 05-984 Filed 1-18-05; 8:45 am]

BILLING CODE 4312-FW-P